DEPARTMENT OF HEALTH AND HUMAN SERVICES

Substance Abuse and Mental Health Services Administration

Fiscal Year (FY) 2022 Notice of Supplemental Funding Opportunity

AGENCY: Substance Abuse and Mental Health Services Administration, HHS.

ACTION: Notice of Intent to award supplemental funding to the National Anti-Drug Coalitions Training and Workforce Development Grant Funding Opportunity Announcement SP-19-002 grant recipient funded in FY 2019.

This notice is to inform the public that the Substance Abuse and Mental Health Services Administration (SAMHSA) is supporting an administrative supplement (in scope of the parent award) up to $175,000 (total costs) for one-year to the National Anti-Drug Coalitions Training and Workforce Development award recipient.

The purpose of the National Anti-Drug Coalitions Training and Workforce Development grant program, funding announcement SP-19002, is to provide education, training, and technical assistance for coalition leaders and community teams, with an emphasis on the development of coalitions serving economically disadvantaged areas. The program disseminates evaluation tools, mechanisms, and measures to better assess and document coalition performance measures and outcomes and bridge the gap between research and practice by translating knowledge from research into practical application. To achieve these programmatic goals, SAMHSA issued a single source award to the Community Anti-Drug Coalitions of America (CADCA) in Fiscal Year (FY) 2019.

The supplemental funding provides timely resources to CADCA, the only grant recipient under the National Anti-Drug Coalitions Training and Workforce Development grant program, for implementation of the Voices of Youth Training Initiative. The Voices of Youth Training Initiative supports youth-led strategic planning for the prevention field and develops leadership skills for the future workforce.

This supplement will connect the Health Occupations Students of American—Future Health Professionals (HOSA) national student organization with CADCA to support youth-led strategic planning for the prevention field and develop leadership skills for the future workforce. This supplement will also allow CADCA to provide HOSA students an opportunity to both learn about and provide valuable input into strategic initiatives for prevention. At a minimum the funds awarded will be used to conduct the following activities:

• In collaboration with HOSA, identify a group of 20 students at minimum to participate in strategic planning related to prevention. This should be a mix of HOSA students and CADCA-involved youth and should have representation from each of SAMHSA's 10 Regions.

• Engage the youth to identify 1-2 specific needs that have been presented to them from CSAP and complete facilitated exercises, such as a consumer journey mapping-visual representation of how youth experience the prevention activities they are being asked about. These exercises will help to capture the student's points of view in a way that is structured and useful to ongoing strategic initiatives and is an engaging growth activity for participants.

• Provide learning opportunities to these students, including engaging with community coalitions, prevention training, leadership training, and other opportunities that the recipient may suggest with the goal of preparing these students for a future career in substance abuse prevention/community coalition leadership.

This is not a formal request for application. Assistance will only be provided to the National Anti-Drug Coalitions Training and Workforce Development Grant recipient, CADCA, based on the receipt of a satisfactory application and associated budget that is approved by a review group.

Funding Opportunity Title: FY 2019 National Anti-Drug Coalitions Training and Workforce Development Grant SP-19-002.

Assistance Listing Number: 93.243.

Authority: Section 516 of the Public Health Services Act, as amended.

Justification: Eligibility for this supplemental funding is limited to CADCA which was funded in FY 2019 under the National Anti-Drug Coalitions Training and Workforce Development Grant. CADCA has special expertise providing training and workforce development for thousands of members of community coalitions dedicated to preventing substance use. This organization is uniquely positioned to train youth in community-focused prevention activities being funded through this supplement.

Contact: David Wilson, Substance Abuse and Mental Health Services Administration, 5600 Fishers Lane, Rockville, MD 20857, telephone (240) 276-2558; email: david.wilson@samhsa.hhs.gov.

Carlos Graham,
Reports Clearance Officer.

[FR Doc. 2022-11891 Filed 6-2-22; 8:45 am]

BILLING CODE 4162-20-P